DEPARTMENT OF HEALTH AND HUMAN SERVICES

Solicitation of Written Comments on the Draft Report and Draft Recommendations of the Healthcare Personnel Influenza Vaccination Subgroup for Consideration by the National Vaccine Advisory Committee on Achieving the Healthy People 2020 Annual Coverage Goals for Influenza Vaccination in Healthcare Personnel

AGENCY: Department of Health and Human Services, Office of the Secretary, Office of the Assistant Secretary for Health, National Vaccine Program Office.

ACTION: Notice.

SUMMARY: The National Vaccine Advisory Committee (NVAC) was established in 1987 to comply with Title XXI of the Public Health Service Act (Pub. L. 99-660) (§ 2105) (42 U.S. Code 300aa-5 (PDF—78 KB)). Its purpose is to advise and make recommendations to the Director of the National Vaccine Program on matters related to program responsibilities. The Assistant Secretary for Health (ASH) has been designated by the Secretary of Health and Human Services as the Director of the National Vaccine Program. The ASH has charged the NVAC with developing recommended strategies for annually achieving 90% influenza vaccination coverage among healthcare personnel, as stated in the Healthy People 2020 goals. The Healthcare Personnel Influenza Vaccination Subgroup (HCPIVS), a subgroup of the NVAC Adult Immunization Working Group (AWIG), was established to address this charge on behalf of the NVAC. A draft report and draft recommendations have been developed by the HCPIVS for consideration by the NVAC and will be deliberated on by the NVAC when developing NVAC's final recommendations to the ASH. The National Vaccine Program Office (NVPO) is soliciting public comment on the Healthcare Personnel Influenza Vaccination Subgroup draft report and draft recommendations for increasing vaccination of healthcare personnel to meet the Healthy People 2020 goals. Individuals and organizations are encouraged to submit their comments on the draft report and draft recommendations. It is anticipated that the draft report and draft recommendations, as revised with consideration given to public comment and stakeholder input, will be presented in February 2012 to the NVAC for deliberation and decision on their final recommendations.

DATES: Comments for consideration by the NVAC should be received no later than 5:00 p.m. EST on Monday, January 16, 2012.

ADDRESSES:

(1) The draft report and draft recommendations are available on the web at http://www.hhs.gov/nvpo/nvac/subgroups/healthcare_personnel_influenza_vacc_subgroup.html.

(2) Electronic responses are preferred and may be addressed to: nvpo@hhs.gov.

(3) Written responses should be addressed to: National Vaccine Program Office, U.S. Department of Health and Human Services, 200 Independence Avenue SW., Room 733G.3, Washington, DC 20201, Attn: Healthcare Personnel Influenza Vaccination c/o Jennifer Gordon.

FOR FURTHER INFORMATION CONTACT: Jennifer Gordon, Ph.D., National Vaccine Program Office, U.S. Department of Health and Human Services, 200 Independence Ave. SW., Room 733G.3, Washington, DC 20201, Attn: Healthcare Personnel Influenza Vaccination, telephone (202) 205-5673; fax (202) 260-1165; email: nvpo@hhs.gov.

SUPPLEMENTARY INFORMATION:

I. Background

The National Vaccine Program Office (NVPO) is located within the Office of the Assistant Secretary for Health (OASH), Office of the Secretary, U.S. Department of Health and Human Services. NVPO provides leadership and fosters collaboration among the various Federal agencies involved in vaccine and immunization activities. These coordinated efforts are aimed to achieve the strategic goals outlined in the National Vaccine Plan. The National Vaccine Plan provides a framework, including goals, objectives, and strategies, for pursuing the prevention of infectious diseases through immunizations. The NVPO also supports the National Vaccine Advisory Committee (NVAC). The NVAC advises and makes recommendations to the Assistant Secretary for Health (ASH) in his capacity as the Director of National Vaccine Program on matters related to vaccine program responsibilities.

In response to historically low influenza vaccination rates in healthcare personnel, the ASH charged NVAC with developing recommended strategies for annually achieving 90% influenza vaccination coverage among healthcare personnel, as stated in the Healthy People 2020 goals. The Healthcare Personnel Influenza Vaccination Subgroup (HCPIVS), a subgroup of the NVAC Adult Immunization Working Group (AWIG), was established to address this charge on behalf of the NVAC. The HCPIVS consists of a broad range of stakeholders including representatives from a variety of medical and public health agencies and professional organizations. The HCPIVS members have deliberated on a number of scientific findings, position statements, and presentations that examine issues pertaining to influenza vaccination in healthcare personnel. Through discussion and careful review, the HCPIVS has developed draft recommendations for consideration by the NVAC to achieve the charge, as noted above.

The draft report describes the importance of influenza as a public health issue, the importance of protecting vulnerable patients from influenza infection, and the importance of influenza immunization as part of a comprehensive influenza infection control program for protecting both healthcare personnel and patients against influenza infections. From these findings and conclusions, HCPIVS has developed draft recommendations that support strategies which have shown success in improving influenza vaccination coverage among healthcare personnel.

NVPO is seeking comments on these draft recommendations from a variety of stakeholders, including the general public, for consideration by the NVAC as they develop their final recommendations to the ASH. Comments received will be available for public viewing on the NVAC Healthcare Personnel Influenza Vaccination Subgroup site located on the NVPO Web site http://www.hhs.gov/nvpo/nvac/subgroups/healthcare_personnel_influenza_vacc_subgroup.html.

II. Request for Comment

NVPO, on behalf of the NVAC Healthcare Personnel Influenza Vaccination Subgroup, requests input on the draft report and draft recommendations http://www.hhs.gov/nvpo/nvac/subgroups/healthcare_personnel_influenza_vacc_subgroup.html.

In addition to general comments, NVPO is seeking input on additional proven strategies and/or potential barriers to achieving the Healthy People 2020 annual goal of 90% influenza vaccine coverage among healthcare personnel that are not addressed in the NVAC Healthcare Personnel Influenza Vaccination Subgroup draft report and draft recommendations. Please limit comments to 6 pages.

III. Potential Responders

NVPO invites input from a broad range of individuals and organizations that have interests in influenza vaccination coverage in Healthcare Personnel as an important patient safety measure. Examples of potential responders include, but are not limited to, the following:

—General public;

—Advocacy groups and public interest organizations;

—State and local governments;

—State and local public health departments;

—Healthcare professional societies and organizations;

—Healthcare organizations.

When responding, please self-identify with any of the above or other categories (include all that apply) and your name. All comments submitted will be made publicly available. Anonymous submissions will not be considered and will not have their comments posted.

Written submissions should not exceed 6 pages. Any information you submit will be made public. Consequently, do not send proprietary, commercial, financial, business, confidential, trade secret, or personal information that you do not wish to be made public.

IV. Public Access

Comments on the draft report and draft recommendations will be available to the public on the NVPO Web site at: http://www.hhs.gov/nvpo/nvac/subgroups/healthcare_personnel_influenza_vacc_subgroup.html.

You may access public comments received by going to the above Web site.

Dated: November 07, 2011.
Bruce Gellin,
Deputy Assistant Secretary for Health, Director, National Vaccine Program Office.

[FR Doc. 2011-32308 Filed 12-16-11; 8:45 am]

BILLING CODE 4150-28-P